DEPARTMENT OF COMMERCE

National Oceanic and Atmospheric Administration

RIN 0648-XV82

Pacific Fishery Management Council; Public Meeting

AGENCY: National Marine Fisheries Service (NMFS), National Oceanic and Atmospheric Administration (NOAA), Commerce.

ACTION: Notice of public meeting.

SUMMARY: The Pacific Fishery Management Council (Council) will convene a meeting of the Ecosystem Advisory Subpanel (EAS) which is open to the public.

DATES: The EAS will meet Tuesday, May 4, 2010 beginning at 8:30 a.m. and conclude at 5 p.m. or when business for the day is completed.

ADDRESSES: The EAS meeting will be held at the Pacific Fishery Management Council Office, Large Conference Room, 7700 NE Ambassador Place, Suite 101, Portland, OR 97220; telephone: (503) 820-2280.

FOR FURTHER INFORMATION CONTACT: Mike Burner, Staff Officer; telephone: (503) 820-2280.

SUPPLEMENTARY INFORMATION: The primary purpose of the meeting is to review and comment on a draft report to the Council on initial stages of developing an Ecosystem Fishery Management Plan (EFMP). The Council's Ecosystem Plan Development Team (EPDT) has taken the lead in preparing a Council requested report on developing an EFMP that includes a draft statement of purpose and need, a draft list of possible initial goals and objectives, and a draft range of options on the geographic range, managed species, and regulatory scope of the EFMP. Members of the EPDT will be in attendance to review the report and respond to EAS questions and comments. The final report is scheduled to be presented to the Council at its June 2010 meeting in Foster City, CA.

Although non-emergency issues not contained in the meeting agenda may come before the EAS for discussion, those issues may not be the subject of formal EAS action during this meeting. EAS action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Ms. Carolyn Porter at (503) 820-2280 at least 5 days prior to the meeting date.

Dated: April 13, 2010.
Tracey L. Thompson,
Acting Director, Office of Sustainable Fisheries, National Marine Fisheries Service.

[FR Doc. 2010-8709 Filed 4-15-10; 8:45 am]

BILLING CODE 3510-22-S